FEDERAL COMMUNICATIONS COMMISSION

47 CFR Part 25

Satellite Communications

CFR Correction

In title 47 of the Code of Federal Regulations, parts 20 to 39, revised as of October 1, 2007, in § 25.208, on page 239, in Table 1G in paragraph (g) and, on page 240, in Table 1H in paragraph (h) make the following change:

For each entry in the tables, remove the number “40” from the third column, “Percentage of time during which EPFDdown level may not be exceeded” and add it to the fourth column, “Reference bandwidth (kHz)”.

[FR Doc. E8-23115 Filed 9-30-08; 8:45 am]

BILLING CODE 1505-01-D